FEDERAL COMMUNICATIONS COMMISSION

Radio Broadcasting Services; AM or FM Proposals To Change The Community of License

AGENCY: Federal Communications Commission.

ACTION: Notice.

SUMMARY: The following applicants filed AM or FM proposals to change the community of license: Brown, William W, Station KWXM, Facility Id 190441, BMPH-20150507AAQ, From Homer, LA, To Simsboro, LA; Jackson Hole Broadcasting, Inc., Station KJNT, Facility Id 161525, BP-20150213ADN, From Jackson, WY, To Etna, WY; Kona Coast Radio, LLC, Station KIIQ, Facility Id 85056, BPH-20150406ACS, From Limon, CO, To Deer Trail, CO; Lazer Licenses, LLC, Station KXSM, Facility Id 34526, BPH-20150506ACG, From Hollister, CA, To Chualar, CA; Point Five LLC, Station New, Facility Id 191522, BMPH-20150507ACA, From Barstow, CA, To Kramer Junction, CA.

DATES: The agency must receive comments on or before August 10, 2015.

ADDRESSES: Federal Communications Commission, 445 12th Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm.

Federal Communications Commission.
James D. Bradshaw,
Deputy Chief, Audio Division Media Bureau.

[FR Doc. 2015-13999 Filed 6-8-15; 8:45 am]

BILLING CODE 6712-01-P